DEPARTMENT OF STATE

[Public Notice: 5878]

60-Day Notice of Proposed Information Collection: Form DS-1998E, Foreign Service Officer Test Registration Form, OMB Control Number 1405-0008

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Registration for the Foreign Service Officer Test.

• OMB Control Number: 1405-0008.

• Type of Request: Extension of a Currently Approved Collection.

• Originating Office: Human Resources, HR/REE/BEX.

• Form Number: DS-1998E.

• Respondents: Registrants for the Foreign Service Officer Test.

• Estimated Number of Respondents: 20,000.

• Estimated Number of Responses: 20,000.

• Average Hours Per Response: 3 hours.

• Total Estimated Burden: 60,000 hours.

• Frequency: Annually.

• Obligation to Respond: Required to Obtain or Retain a Benefit.

DATES: The Department will accept comments from the public up to 60 days from August 9, 2007.

ADDRESSES: You may submit comments by any of the following methods:

• E-mail: blakesj@state.gov.

• Mail (paper, disk, or CD-ROM submissions): Stephen Blake, HR/REE/BEX, SA-1, 2401 E Street, NW., H-518, Washington, DC 20522.

• Fax: (202) 261-8843, Attn: Stephen Blake.

You must include the DS form number (if applicable), information collection title, and OMB control number in any correspondence.

FOR FURTHER INFORMATION CONTACT: Direct requests for additional information regarding the collection listed in this notice, including requests for copies of the proposed information collection and supporting documents, to Stephen Blake, HR/REE/BEX, SA-1, 2401 E Street, NW., H-518, Washington, DC 20522, who may be reached on (202) 261-8898 or at blakesj@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Individuals registering for the Foreign Service Officer Test will complete a Registration Form that consists of an application form and six personal narrative questions about experience and qualifications. This includes information about their name, age, Social Security Number, contact information, ethnicity, education and work history, military experience, and their knowledge, skills and abilities they would bring to the Foreign Service. The information will be used to prepare and issue admission to the Foreign Service Officer Test, to assess registrants' qualifications for selection as a Foreign Service Officer, to provide data useful for improving future tests, and to conduct research studies based on the test results.

Methodology

Responses can be submitted electronically.

Dated: July 16, 2007.
Ruben Torres,
Executive Director, HR/EX, Department of State.

[FR Doc. E7-15574 Filed 8-8-07; 8:45 am]

BILLING CODE 4710-15-P